DEPARTMENT OF LABOR

Employment and Training Administration

[TA-W-65,366]

Hewlett Packard Company; Business Critical Systems Mission Critical Business Software Division Open VMS Operating System Development Group Including Employees Working Off Site In New Hampshire, Florida, New Jersey, Colorado, and Marlborough, MA; Notice of Termination of Investigation

Pursuant to Section 221 of the Trade Act of 1974, as amended, an investigation was initiated on February 25, 2009 in response to a petition filed by the California State TAA Coordinator on behalf of the workers at Hewlett Packard Company, Business Critical Systems—Mission Critical Business Software Division, Open VMS Operating System Development Group, Marlborough, Massachusetts, including employees working off-site in New Hampshire, Florida, New Jersey, and Colorado.

The petition regarding the investigation has been deemed invalid. State representatives can only submit petitions on behalf of workers previously employed in their respective states. Consequently, the investigation has been terminated.

Signed at Washington, DC, this 12th day of March 2009.
Richard Church
Certifying Officer, Division of Trade Adjustment Assistance.

[FR Doc. E9-6305 Filed 3-23-09; 8:45 am]

BILLING CODE 4510-FN-P